DEPARTMENT OF THE INTERIOR

Bureau of Land Management

[18X LLWO600000.L18200000.XP0000]

National Call for Nominations for Resource Advisory Councils

AGENCY: Bureau of Land Management, Interior.

ACTION: Notice of call for nominations.

SUMMARY: The purpose of this notice is to request public nominations for the Bureau of Land Management's (BLM) 31 statewide and regional Resource Advisory Councils (RAC) located in the West that have members whose terms are scheduled to expire. These RACs provide advice and recommendations to the BLM on land use planning and management of the National System of Public Lands within their geographic areas.

DATES: All nominations must be received no later than June 14, 2019.

ADDRESSES: Nominations and completed applications should be sent to the appropriate BLM offices listed in the SUPPLEMENTARY INFORMATION section of this notice.

FOR FURTHER INFORMATION CONTACT: Carrie Richardson, BLM Communications, 1849 C Street NW, Room 5614, Washington, DC 20240, telephone: 202-501-2634, email: crichardson@blm.gov. Persons who use a telecommunications device for the deaf (TDD) may call the Federal Relay Service (FRS) at 1-800-877-8339 to contact Ms. Richardson during normal business hours. The FRS is available 24 hours a day, 7 days a week, to leave a message or question. You will receive a reply during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784. The RACs include the following three membership categories:

Category One—Holders of Federal grazing permits or leases within the area for which the RAC is organized; represent interests associated with transportation or rights-of-way; represent developed outdoor recreation, off-highway vehicle users, or commercial recreation activities, including, for example, commercial/charter or recreational fishing; represent the commercial timber industry; or represent energy and mineral development.

Category Two—Representatives of nationally or regionally recognized environmental organizations; dispersed recreational activities, including, for example, hunting and shooting sports; archaeological and historical interests; or nationally or regionally recognized wild horse and burro interest groups.

Category Three—Hold State, county, or local elected office; are employed by a State agency responsible for the management of natural resources, land, or water, including, for example, State/local fire associations; represent Indian tribes within or adjacent to the area for which the RAC is organized; are employed as academicians in natural resource management or the natural sciences; or represent the affected public at large, including, for example, sportsmen and sportswomen communities.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/GetInvolved_RACApplication.pdf.

—Letters of reference from represented interests or organizations; and

—Any other information that addresses the nominee's qualifications.

Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Nominations and completed applications for RACs should be sent to the appropriate BLM offices listed below:

Alaska

Alaska RAC

Lesli J. Ellis-Wouters, BLM Alaska State Office, 222 West 7th Street #13, Anchorage, AK 99513; Phone: 907-271-4418.

Arizona

Arizona RAC

Amber Cargile, BLM Arizona State Office, One North Central Avenue, Suite 800, Phoenix, AZ 85004; Phone: 602-417-9448.

California

Northern California RAC

Jeff Fontana, BLM Eagle Lake Field Office, 2550 Riverside Drive, Susanville, CA 96130; Phone: 530-252-5332.

Central California RAC

Serena Baker, BLM Mother Lode Field Office, 5152 Hillsdale Circle, El Dorado Hills, CA 95762; Phone: 916-941-3146.

Colorado

Rocky Mountain RAC

Brant Porter, BLM Rocky Mountain District Office, 3028 East Main Street, Cañon City, CO 81212; Phone 719-269-8553.

Northwest RAC

David Boyd, BLM Northwest District Office, 2300 River Frontage Road, Silt, CO 81652; Phone: 970-876-9008.

Southwest RAC

Gloria Tibbetts, BLM Southwest District Office, 2465 South Townsend Avenue, Montrose, CO 81401; Phone 970-240-5430.

Idaho

Boise District RAC

Michael Williamson, BLM Boise District Office, 3948 Development Avenue, Boise, ID 83705; Phone: 208-384-3393.

Coeur d'Alene District RAC

Suzanne Endsley, BLM Coeur d'Alene District Office, 3815 Schreiber Way, Coeur d'Alene, ID 83815; Phone: 208-769-5004.

Idaho Falls District RAC

Sarah Wheeler, BLM Idaho Falls District Office, 1405 Hollipark Drive, Idaho Falls, ID 83401; Phone: 208-524-7550.

Twin Falls District RAC

Heather Tiel-Nelson, BLM Twin Falls District Office, 2878 Addison Avenue East, Twin Falls, ID 83301; Phone: 208-736-2352.

Montana and Dakotas

North Central Montana RAC

Ann Boucher, BLM Montana/Dakotas State Office, 5001 Southgate Drive, Billings MT 59101; Phone: 406-896-5255.

Street, Lewistown, MT 59457; Phone: 406-538-1943.

Dakotas RAC

Mark Jacobsen, BLM Eastern Montana/Dakotas District Office, 111 Garryowen Road, Miles City, MT 59301; Phone: 406-233-2831.

Eastern Montana RAC

Mark Jacobsen, BLM Eastern Montana/Dakotas District Office, 111 Garryowen Road, Miles City, MT 59301; Phone: 406-233-2831.

Western Montana RAC

David Abrams, BLM Western Montana District Office, 106 North Parkmont, Butte, MT 59701; Phone: 406-533-7617.

New Mexico

Albuquerque District RAC

Kristen Long, BLM Socorro Field Office, 901 South Highway 85, Socorro, NM 87801; Phone: 575-838-1263.

Farmington District RAC

Heather Perry, BLM Farmington District Office, 6251 College Boulevard, Farmington, NM 87402; Phone: 505-564-7620.

Las Cruces District RAC

Deborah Stevens, BLM Las Cruces District Office, 1800 Marquess Street, Las Cruces, NM 88005; Phone: 575-525-4421.

Pecos District RAC

Glen Garnand, BLM Pecos District Office, 2909 West Second Street, Roswell, NM 88201; Phone: 575-627-0209.

Nevada

Mojave-Southern Great Basin RAC

Kirsten Cannon, Southern Nevada District Office, 4701 North Torrey Pines Drive, Las Vegas, NV 89130; Phone: 702-515-5057.

Northeastern Great Basin RAC

Kyle Hendrix, Battle Mountain District Office, 50 Bastian Road, Battle Mountain, NV 89820; Phone: 775-635-4054.

Sierra Front Northwestern Great Basin RAC

Lisa Ross, Carson City District Office, 5665 Morgan Mill Road, Carson City, NV 89701; Phone 775-885-6107.

Oregon/Washington

Coastal Oregon RAC

Megan Harper, BLM Coos Bay District Office, 1300 Airport Lane, North Bend, OR 97459: Phone: 541-751-4353.

Eastern Washington RAC

Jeff Clark, BLM Spokane District Office, 1103 North Fancher Road, Spokane, WA 99212; Phone: 509-536-1297.

John Day-Snake RAC

Lisa Clark, BLM Prineville District Office, 3050 NE 3rd Street, Prineville, OR 97754; Phone: 541-416-6864.

Northwest Oregon RAC

Jennifer Velez, BLM Northwest Oregon District Office, 1717 Fabry Road SE, Salem, OR 97306; Phone: 541-222-9241.

Southeast Oregon RAC

Larisa Bogardus, BLM Vale District Office, 3100 H Street, Baker City, OR 97814 Phone 541-523-1407

Southwest Oregon RAC

Christina Breslin, BLM Medford District Office, 3040 Biddle Road, Medford, OR 97504; Phone: 541-618-2371.

Utah

Utah RAC

Lola Bird, BLM Utah State Office, 440 West 200 South, Suite 500, Salt Lake City, UT 84101; Phone 801-539-4033.

Wyoming

Wyoming RAC

Emmet Pruss, BLM Wyoming State Office, 5353 Yellowstone Road, P.O. Box 1828, Cheyenne, WY 82009; Phone: 307-775-6266.

(Authority: 43 CFR 1784.4-1)

Tara Rigler,
Assistant Director for Communications.

[FR Doc. 2019-08723 Filed 4-29-19; 8:45 am]

BILLING CODE 4310-84-P